DEPARTMENT OF HEALTH AND HUMAN SERVICES

Substance Abuse and Mental Health Services Administration

Agency Information Collection Activities: Proposed Collection; Comment Request

In compliance with section 3506(c)(2)(A) of the Paperwork Reduction Act of 1995 concerning opportunity for public comment on proposed collections of information, the Substance Abuse and Mental Health Services Administration will publish periodic summaries of proposed projects. To request more information on the proposed projects or to obtain a copy of the information collection plans, call the SAMHSA Reports Clearance Officer on (240) 276-1243.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: SAMHSA/CMHS Initiative To Evaluate Mental Health Transformation: 9 State Incentive Grants—NEW

The Substance Abuse and Mental Health Services Administration (SAMHSA), Center for Mental Health Services (CMHS), has funded an Initiative to help grantees transform their mental health and related service systems. Mental Health Transformation State Incentive Grants (MHT SIG) awards were made to 9 States: Connecticut, Hawaii, Maryland, Missouri, New Mexico, Ohio, Oklahoma, Texas and Washington. Associated with this project is an OMB-required independent evaluation of the program.

With input from CMHS staff, MHT SIG State representatives and consumer and family member consultants, a set of data collection instruments has been identified or created for the cross-site evaluation project. The following survey instruments will be used: (1) A recovery measure for adults, (2) a resilience measure for youth, (3) a system measure on orientation towards recovery, (4) a leadership survey, (5) mental health provider interview guide, (6) GPRA data collection, and (7) consumer/family member focus group facilitation guide/interview guide. Grantees will be allowed to use recovery, resilience and system orientation instruments of their choice as long as it meets identified CMHS criteria. Discretionary grant NOMs questions which have already received OMB approval (No. 0930-0285) will be used along with the recovery and resilience instruments selected by the States. In addition, during site visits, one each of the following State staff will be interviewed using a uniquely developed discussion guide: MHT SIG Project Director; MHT SIG Transformation Working Group Chair; director or senior staff of the mental health, Medicaid, criminal/juvenile justice, education, employment, housing agencies. Phone interview also will be conducted using uniquely developed discussion guides with Project Directors to determine the cost impact of the MHT SIG grant in their State.

GPRA data will be submitted annually by the grantees into a database hosted on a password-protected Web extranet site. The recovery, resilience and system recovery orientation data for non-impacted and impacted consumer groups will be collected by the grantees at two points: baseline and twelve months. During grants years 3 and 5, consumer/family member focus groups/interviews, leadership surveys, and State agency staff interviews will be done. During grant years 3 through 5, mental health provider interviews will be done.

The resulting data will help the cross site evaluation: (1) Determine the extent to which mental health systems have become recovery-oriented, (2) determine the extent to which transformation results in consumer recovery, (3) identify the factors contributing to successful transformation, (4) assist the MHT SIG program in satisfying GPRA requirements, (5) determine changes in client outcomes as measured by NOMs, and (6) demonstrate the cost efficiency of the MHT SIG program. The estimated annual response burden to collect this information is as follows:

Instrument | No. of grantees | No. of respondents/grantee | Total no. of respondents | Responses/ respondent | Average burden/response (hours) | Annual burden (hours)
YEAR 1:
Recovery (non-impacted) | 7 | 75 | 525 | 1 | 0.5 | 262.5
Resilience (non-impacted) | 7 | 75 | 525 | 1 | 0.6 | 315
Leadership Survey | 7 | 15 | 105 | 1 | 0.33 | 34.65
Provider Interviews | 7 | 28 | 196 | 1 | 0.5 | 98
GPRA Measures | 7 | 1 | 7 | 1 | 12 | 84
Consumer/family involvement | 7 | 15 | 105 | 1 | 1.5 | 157.5
State agency staff interviews | 7 | 8 | 56 | 1 | 1.13 | 63.28
Cost impact | 7 | 1 | 7 | 1 | 1.5 | 10.5
Subtotal (year 1) |  |  | 1526 |  |  | 1025.43
YEAR 2:
Recovery (impacted) | 7 | 75 | 525 | 1 | 0.5 | 262.5
Recovery (non-impacted) | 2 | 75 | 150 | 1 | 0.5 | 75
Recovery & System Recovery Orientation (non-impacted) | 7 | 75 | 525 | 1 | 1 | 525
Resilience (impacted) | 7 | 75 | 525 | 1 | 0.6 | 315
Resilience (non-impacted) | 9 | 75 | 675 | 1 | 0.6 | 405
Leadership Survey | 2 | 15 | 30 | 1 | 0.33 | 9.9
Provider Interviews | 9 | 28 | 252 | 1 | 0.5 | 126
GPRA Measures | 9 | 1 | 9 | 1 | 12 | 108
Consumer/family involvement | 2 | 15 | 30 | 1 | 1.5 | 45
State agency staff interviews | 2 | 8 | 16 | 1 | 1.13 | 18.08
Cost impact | 2 | 1 | 2 | 1 | 1.5 | 3
Subtotal (year 2) |  |  | 2739 |  |  | 1892.48
YEAR 3:
Recovery (impacted) | 2 | 75 | 150 | 1 | 0.5 | 75
Recovery & System Recovery Orientation (impacted) | 7 | 75 | 525 | 1 | 1 | 525
Recovery & System Recovery Orientation (non-impacted) | 2 | 75 | 150 | 1 | 1 | 150
Resilience (impacted) | 9 | 75 | 675 | 1 | 0.6 | 405
Resilience (non-impacted) | 2 | 75 | 150 | 1 | 0.6 | 90
Leadership Survey | 7 | 15 | 105 | 1 | 0.33 | 34.65
Provider Interviews | 9 | 28 | 252 | 1 | 0.5 | 126
GPRA Measures | 9 | 1 | 9 | 1 | 12 | 108
Consumer/family involvement | 7 | 15 | 105 | 1 | 1.5 | 157.5
State agency staff interviews | 7 | 8 | 56 | 1 | 1.13 | 63.28
Cost impact | 7 | 1 | 7 | 1 | 1.5 | 10.5
Subtotal (year 3) |  |  | 2184 |  |  | 1744.93
AVERAGE |  |  | 2150 |  |  | 1554.28

Send comments to Summer King, SAMHSA Reports Clearance Officer, Room 7-1044, One Choke Cherry Road, Rockville, MD 20857. Written comments should be received within 60 days of this notice.

Dated: August 13, 2007.
Elaine Parry,
Acting Director, Office of Program Services.

[FR Doc. E7-16541 Filed 8-21-07; 8:45 am]

BILLING CODE 4162-20-P